DEPARTMENT OF COMMERCE

International Trade Administration

[A-533-863]

Certain Corrosion-Resistant Steel Products From India: Preliminary Results of Antidumping Duty Administrative Review; 2017-2018

AGENCY: Enforcement and Compliance, International Trade Administration, Department of Commerce.

SUMMARY: The Department of Commerce (Commerce) preliminarily finds that exporters of certain corrosion-resistant steel products (CORE) sold subject merchandise in the United States at prices below normal value (NV) during the period of review (POR), July 1, 2017, through June 30, 2018. We invite all interested parties to comment on these preliminary results.

DATES: Effective February 1, 2019.

FOR FURTHER INFORMATION CONTACT: Rachel Greenberg, AD/CVD Operations, Office V, Enforcement and Compliance, International Trade Administration, U.S. Department of Commerce, 1401 Constitution Avenue NW, Washington, DC 20230; telephone: (202) 482-0652.

SUPPLEMENTARY INFORMATION:

Background

On September 10, 2018, Commerce initiated the antidumping administrative review on certain-corrosion resistant steel products from India.¹ This administrative review covers: Atlantis International Services Company Ltd., Uttam Galva Steels (BVI) Limited, Uttam Galva Steels Limited, Uttam Galva Steels, Netherlands B.V., Uttam Value Steels Limited (collectively, Uttam Galva); and JSW Coated Products Ltd. and JSW Steel Ltd. (collectively, JSW), producers/exporters of subject merchandise.

¹ See Initiation of Antidumping and Countervailing Duty Administrative Reviews, 83 FR 45597 (September 10, 2018).

Scope of the Order

The products covered by this review are CORE from India. For a full description of the scope, see the Preliminary Decision Memorandum dated concurrently with, and hereby adopted by, this notice.²

² See Memorandum, “Decision Memorandum for Preliminary Results of Antidumping Duty Administrative Review” (dated concurrently with this notice) (Preliminary Decision Memorandum).

Methodology

Commerce is conducting this review in accordance with section 751(a)(1)(B) and (a)(2) of the Tariff Act of 1930, as amended (the Act).³ For a full description of the methodology underlying our conclusions, see the Preliminary Decision Memorandum. A list of the topics included in the Preliminary Decision Memorandum is included as an appendix to this notice. The Preliminary Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Preliminary Decision Memorandum can be accessed at http://enforcement.trade.gov/frn/index.html. The signed Preliminary Decision Memorandum and the electronic version of the Preliminary Decision Memorandum are identical in content.

³ See Certain Corrosion-Resistant Steel Products from India, Italy, the People's Republic of China, the Republic of Korea, and Taiwan: Amended Final Affirmative Antidumping Determination for India and Taiwan, and Antidumping Duty Orders, 81 FR 48390 (July 25, 2016) (Order).

Preliminary Determination of No Shipments

On September 21, 2018, JSW timely filed a certification stating it had no shipments, exports, sales, or entries of subject merchandise into the United States during the POR.⁴ Subsequently, Commerce received confirmation from U.S. Customs and Border Protection (CBP) of JSW's no shipment claims.⁵ Based on JSW's certification and CBP's confirmation, Commerce preliminarily determines that JSW had no shipments during the POR. For additional information regarding this determination, see the Preliminary Decision Memorandum. Consistent with our practice, Commerce is not rescinding this administrative review with respect to JSW at this time, but intends to complete the review and issue appropriate instructions to CBP based on the final results of this review.⁶

⁴ See JSW's Letter, “No Shipment Certification,” dated September 21, 2018.

⁵ See Memorandum, “No Shipment Certification,” dated October 3, 2018.

⁶ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306 (August 28, 2014).

Adverse Facts Available

Commerce issued the antidumping (AD) questionnaire on September 10, 2018, to Uttam Galva.⁷ Uttam Galva failed to provide requested information and failed to cooperate by not acting to the best of its ability to comply with a request for information from Commerce in this review. As a result, we preliminarily determine to apply facts otherwise available with an adverse inference (AFA) to this respondent, in accordance with sections 776(a) and (b) of the Act and 19 CFR 351.308. For further discussion, see the Preliminary Decision Memorandum.

⁷ The AD questionnaire was issued to Atlantis International Services Company Ltd.; Uttam Galva Steels (BVI) Limited; Uttam Galva Steels Limited; Uttam Value Steels Limited; and Uttam Galva Steels, Netherlands B.V., collectively, based on Commerce's finding in the investigation that these companies were a single entity. See Certain Corrosion-Resistant Steel Products from India: Final Determination of Sales at Less than Fair Value and Final Negative Determination of Critical Circumstances, 81 FR 35329, 35330 (June 2, 2016).

Preliminary Results of Review

As a result of this review, we preliminarily determine that, for the period of July 1, 2017, through June 30, 2018, the following weighted-average dumping margin applies:

Exporter/producer | Weighted- average dumping margin (percent)
Uttam Galva Steels Limited ⁸ | 71.09

Disclosure and Public Comment

Normally, Commerce discloses to interested parties the calculations performed in connection with the preliminary results within five days after the date of any public announcement, in accordance with 19 CFR 351.224(b). However, there are no calculations to disclose in connection with these preliminary results because, in accordance with section 776 of the Act, Commerce preliminarily applied AFA to Uttam Galva, the mandatory respondent, and Commerce has preliminarily determined as the AFA rate a dumping margin applied in a prior segment of this proceeding.

⁸ This rate also applies to: Atlantis International Services Company Ltd., Uttam Galva Steels (BVI) Limited, Uttam Galva Steels, Netherlands B.V., and Uttam Value Steels Limited.

Interested parties may submit case briefs to Commerce no later than 30 days after the date of publication of this notice.⁹ Rebuttal briefs, limited to issues raised in the case briefs, may be filed not later than five days after the date for filing case briefs.¹⁰ Pursuant to 19 CFR 351.309(c)(2) and (d)(2), parties who submit case briefs or rebuttal briefs in this proceeding are encouraged to submit with each argument: (1) A statement of the issue; (2) a brief summary of the argument; and (3) a table of authorities. Case and rebuttal briefs should be filed using ACCESS.¹¹

⁹ See 19 CFR 351.309(c)(1)(ii).

¹⁰ See 19 CFR 351.309(d).

¹¹ See 19 CFR 351.303.

Pursuant to 19 CFR 351.310(c), interested parties who wish to request a hearing must submit a written request to the Assistant Secretary for Enforcement and Compliance, filed electronically via ACCESS. An electronically-filed document must be received successfully in its entirety by ACCESS by 5 p.m. Eastern Standard Time within 30 days after the date of publication of this notice. Requests should contain: (1) The party's name, address, and telephone number; (2) the number of participants; (3) whether any participant is a foreign national; and (4) a list of issues parties intend to discuss. Issues raised in the hearing will be limited to those raised in the respective case and rebuttal briefs. If a request for a hearing is made, Commerce intends to hold the hearing at the U.S. Department of Commerce, 1401 Constitution Avenue NW, Washington, DC 20230, at a time and date to be determined.¹² Parties should confirm by telephone the date, time, and location of the hearing two days before the scheduled date.

¹² See 19 CFR 351.310(c).

Commerce intends to issue the final results of this administrative review, including the results of its analysis of issues raised in any written briefs, not later than 120 days after the date of publication of this notice, unless the deadline is extended.¹³

¹³ See section 751(a)(3)(A) of the Act and 19 CFR 351.213(h).

Assessment Rates

Upon issuance of the final results, Commerce shall determine, and CBP shall assess, antidumping duties on all appropriate entries covered by this review.¹⁴ The final results of this review shall be the basis for the assessment of antidumping duties on entries of merchandise covered by the final results of this review and for future deposits of estimated duties, where applicable.¹⁵ We intend to issue instructions to CBP 15 days after the date of publication of the final results of this review.

¹⁴ See 19 CFR 351.212(b).

¹⁵ See section 751(a)(2)(C) of the Act.

Cash Deposit Requirements

The following deposit requirements will be effective for all shipments of the subject merchandise entered, or withdrawn from warehouse, for consumption on or after the publication date of the final results of this administrative review, as provided by section 751(a)(2)(C) of the Act: (1) The cash deposit rate for Uttam Galva will be the rate established in the final results of this review; (2) for previously reviewed or investigated companies not participating in this review, the cash deposit rate will continue to be the company-specific rate published for the most recently-completed segment of this proceeding in which the company was reviewed; (3) if the exporter is not a firm covered in this review, a prior review, or the original investigation, but the producer is, the cash deposit rate will be the rate established for the most recently-completed segment of this proceeding for the producer of subject merchandise; and (4) the cash deposit rate for all other manufacturers or exporters will continue to be 0.00 percent, the all-others rate established in the investigation.¹⁶ These cash deposit requirements, when imposed, shall remain in effect until further notice.

¹⁶ See Order, 81 FR at 48393.

Notification to Importers

This notice serves as a preliminary reminder to importers of their responsibility under 19 CFR 351.402(f)(2) to file a certificate regarding the reimbursement of antidumping duties prior to liquidation of the relevant entries during this POR. Failure to comply with this requirement could result in the Secretary's presumption that reimbursement of antidumping duties occurred and the subsequent assessment of doubled antidumping duties.

The preliminary results of review are issued and published in accordance with sections 751(a)(1) and 777(i)(1) of the Act, and 19 CFR 351.221(b)(4).

Dated: December 21, 2018.
James Maeder,
Associate Deputy Assistant Secretary for Antidumping and Countervailing Duty Operations performing the duties of Deputy Assistant Secretary for Antidumping and Countervailing Duty Operations.

Appendix

List of Topics Discussed in the Preliminary Decision Memorandum

I. Summary

II. Background

III. Scope of the Order

IV. Use of Facts Available and Adverse Inferences

A. Legal Authority

B. Application of Facts Available to Uttam Galva

C. Use of Adverse Inference

D. Selection and Corroboration of AFA Rate

V. Preliminary Determination of No Shipments

VI. Conclusion

[FR Doc. 2019-00746 Filed 1-31-19; 8:45 am]

BILLING CODE 3510-DS-P